DEPARTMENT OF LABOR

Employment and Training Administration

[TA-W-74,671]

Hewlett Packard, Global Parts Supply Chain, Global Product Life Cycles Management Unit, Including Teleworkers Reporting to Houston, TX; Notice of Intent To Terminate Certification Regarding Eligibility To Apply for Worker Adjustment Assistance

In accordance with Section 223 of the Trade Act of 1974, as amended (“Act”), 19 U.S.C. 2273, the Department of Labor issued a Certification of Eligibility to Apply for Worker Adjustment Assistance on November 8, 2010, applicable to workers and former workers of Hewlett Packard, Global Parts Supply Chain, Global Product Life Cycles Management Unit, including teleworkers reporting to Houston, Texas (subject firm). The Department's Notice of certification was published in the Federal Register on November 23, 2010 (75 FR 71460).

At the request of the State of Texas, the Department reviewed the certification applicable to workers and former workers of the subject firm. The State alleged that the subject worker group is concurrently eligible to apply for Trade Adjustment Assistance (TAA) benefits under a previously issued certification.

The review of information supplied by the State shows that the same worker group was covered under an existing certification for all workers of Hewlett Packard Company, Enterprise Business Division, Technical Services America, Global Parts Supply Chain Group, including leased workers from QFlex, North America Logistics and UPS teleworkers across Texas and on-site, Houston, Texas (TA-W-74,466I; issued September 10, 2010). The Department's Notice of certification was published in the Federal Register on September 10, 2010 (75 FR 57982).

Since eligible workers covered under TA-W-74,671 who have not yet received TAA benefits will be eligible to apply for these benefits under TA-W-74,466I (a certification issued two months before TA-W-74,671), the Department is terminating the later certification. It is the Department's intent to terminate the latter certification to correct the duplicate coverage of eligible workers and the possibility of unintended duplication of benefits.

Pursuant to 29 CFR 90.17(b), the group of workers or any persons showing a substantial interest in the termination of this certification are invited to submit written comments to the Director, Office of Trade Adjustment Assistance, U.S. Department of Labor, Room N-5428, 200 Constitution Avenue, NW., Washington, DC 20210, no later than ten (10) days from the date of the publication of this Notice in the Federal Register.

Pursuant to 29 CFR 90.17(d), any termination shall apply only to those workers who are totally or partially separated after the termination date specified in the determination.

Signed in Washington, DC, this 6th day of June, 2011
Del Min Amy Chen,
Certifying Officer, Office of Trade Adjustment Assistance.

[FR Doc. 2011-14563 Filed 6-10-11; 8:45 am]

BILLING CODE 4510-FN-P